COMMISSION ON CIVIL RIGHTS

Notice of Public Meetings of the Arkansas Advisory Committee to the U.S. Commission on Civil Rights

AGENCY: U.S. Commission on Civil Rights.

ACTION: Announcement of meeting.

SUMMARY: Notice is hereby given, pursuant to the provisions of the rules and regulations of the U.S. Commission on Civil Rights (Commission) and the Federal Advisory Committee Act that the Arkansas Advisory Committee (Committee) will hold a meeting on Friday September 7, 2018 from 1-5 p.m. Central time. The Committee will hear public testimony as part of their study of civil rights and mass incarceration in the state.

DATES: The meeting will take place on Friday September 7, 2018 from 1-5 p.m. Central.

ADDRESSES: Holiday Inn Presidential, 600 I-30, Little Rock, AR 72202.

FOR FURTHER INFORMATION CONTACT: Melissa Wojnaroski, DFO, at mwojnaroski@usccr.gov or 312-353-8311.

SUPPLEMENTARY INFORMATION: This meeting is open to the public. An open comment period will be provided to allow members of the public to make a statement, beginning at 4 p.m. To request individual accommodations for persons with disabilities planning to attend, please contact the Regional Programs Unit at 312-353-8311 at least 10 days prior to the meeting. Members of the public are also entitled to submit written comments; the comments must be received in the regional office within 30 days following the meeting. Written comments may be mailed to the Regional Programs Unit, U.S. Commission on Civil Rights, 230 S Dearborn, Suite 2120, Chicago, IL 60604. They may also be faxed to the Commission at (312) 353-8324, or emailed to Corrine Sanders at csanders@usccr.gov. Persons who desire additional information may contact the Regional Programs Unit at (312) 353-8311.

The Committee will examine the State's growing prison population, and the disproportionately high incarceration rate of individuals of color relative to the general population. The Committee will consider state and local policies and practices which may contribute to these disparities, and seek alternative policies and practices with the demonstrated potential to address such concerns. The Committee will hear testimony from formerly incarcerated individuals, community members, advocates, academics, and public officials.

Records generated from this meeting may be inspected and reproduced at the Regional Programs Unit Office, as they become available, both before and after the meeting. Records of the meeting will be available via www.facadatabase.gov under the Commission on Civil Rights, Arkansas Advisory Committee link (https://www.facadatabase.gov/committee/meetings.aspx?cid=236). Click on “meeting details” and then “documents” to download. Persons interested in the work of this Committee are directed to the Commission's website, http://www.usccr.gov, or may contact the Regional Programs Unit at the above email or street address.

Agenda

Opening Remarks and Introductions (1:00 p.m.-1:15 p.m.)

Panel 1: Community & Advocacy (1:15 p.m.-2:30 p.m.)

Panel 2: Academic & Legal (2:45 p.m.-4:00 p.m.)

Open Forum (4:00 p.m.-5:00 p.m.)

Closing Remarks (5:00 p.m.)

Dated: August 13, 2018.
David Mussatt,
Supervisory Chief, Regional Programs Unit.

[FR Doc. 2018-17705 Filed 8-15-18; 8:45 am]

BILLING CODE 6335-01-P